NUCLEAR REGULATORY COMMISSION

[NRC-2010-0002]

Sunshine Act Notice

DATE: Weeks of November 15, 22, 29, December 6, 13, 20, 2010.

PLACE: Commissioners' Conference Room, 11555 Rockville Pike, Rockville, Maryland.

STATUS: Public and closed.

Week of November 15, 2010

There are no meetings scheduled for the week of November 15, 2010.

Week of November 22, 2010—Tentative

There are no meetings scheduled for the week of November 22, 2010.

Week of November 29, 2010—Tentative

Tuesday, November 30, 2010

1 p.m. Briefing on Security Issues (Closed—Ex. 1).

Week of December 6, 2010—Tentative

There are no meetings scheduled for the week of December 6, 2010.

Week of December 13, 2010—Tentative

Thursday, December 16, 2010

2 p.m. Briefing on Construction Reactor Oversight Program (cROP) (Public Meeting); (Contact: Aida Rivera-Varona, 301-415-4001).

This meeting will be webcast live at the Web address— http://www.nrc.gov.

Week of December 20, 2010—Tentative

Tuesday, December 21, 2010

9:30 a.m. Briefing on the Threat Environment Assessment (Closed—Ex. 1).

1 p.m. Briefing on Security Issues (Closed—Ex. 1).

* * * * *

*The schedule for Commission meetings is subject to change on short notice. To verify the status of meetings, call (recording)—301-415-1292. Contact person for more information: Rochelle Bavol, 301-415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Mail to: dlc@nrc.gov. Mail to: aks@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: November 10, 2010.
Rochelle C. Bavol,
Policy Coordinator, Office of the Secretary.

[FR Doc. 2010-28957 Filed 11-12-10; 4:15 pm]

BILLING CODE 7590-01-P